SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before July 2, 2014.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: A copy of the Form OMB 83-1, supporting statement, and other documents submitted to OMB for review may be obtained from the Agency Clearance Officer.

SUPPLEMENTARY INFORMATION: Pursuant to 5(h)(i)(c) The Small Business Market Improvement Act the seller of a loan or pool certificate must disclose the information on this form to the purchaser, constant annual prepayment rate based upon the seller's analysis of the prepayment histories of SBA guaranteed loans with similar maturities and additional disclosure information on the terms, conditions and yield of the securities.

(1) Title: Form of Detached Assignment for U.S. Small Business Administration Loan Pool or Guaranteed Interest Certificate.

Description of Respondents: Collected information is used by investors and SBA.

Estimated Annual Responses: 856.

Estimated Annual Hour Burden: 733.

Curtis B. Rich,
Management Analyst.

[FR Doc. 2014-12610 Filed 5-30-14; 8:45 am]

BILLING CODE 8025-01-P